DEPARTMENT OF DEFENSE

Department of the Army

[Docket ID: USA-2014-0036]

Submission for OMB Review; Comment Request

ACTION: Notice.

SUMMARY: The Department of Defense has submitted to OMB for clearance, the following proposal for collection of information under the provisions of the Paperwork Reduction Act.

DATES: Consideration will be given to all comments received by December 29, 2014.

FOR FURTHER INFORMATION CONTACT: Fred Licari, 571-372-0493.

SUPPLEMENTARY INFORMATION:

Title, Associated Form and OMB Number: Record of Arrivals and Departures of Vessels at Marine Terminals; ENG Form 3926; OMB Control Number 0710-0005.

Type of Request: Extension.

Number of Respondents: 300.

Responses per Respondent: 12.

Annual Responses: 3,600.

Average Burden per Response: 30 minutes.

Annual Burden Hours: 1,800 hours.

Needs and Uses: The information collection requirement is necessary to collect and obtain the data that is used to justify maintenance and improvements of Federal navigation projects and to produce annual tonnage and trip statistics for U.S. waterways and channels. The Corps of Engineers uses the ENG Form 3926 as a quality control instrument by comparing the data collected on the Corps Vessel Operation Report with that collected on ENG Form 3926. The information is voluntarily submitted by the respondents to assist the Waterborne Commerce Statistics Center in the identification of vessel operators who fail to report significant vessel moves and tonnage.

Affected Public: Business or other for-profit.

Frequency: Monthly.

Respondent's Obligation: Voluntary.

OMB Desk Officer: Mr. Stuart Levenbach.

Written comments and recommendations on the proposed information collection should be sent to Mr. Stuart Levenbach at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: November 21, 2014.
Aaron Siegel,
Alternate OSD Federal Register Liaison Officer, Department of Defense.

[FR Doc. 2014-28041 Filed 11-26-14; 8:45 am]

BILLING CODE 5001-06-P